DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The ATSRAC will meet October 22 and 23, 2003, from 8:30 a.m. to 5 p.m.

ADDRESSES: FAA-AANC NDI, Validation Center, 3260 University Blvd., SE., Albuquerque, New Mexico, 87106.

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: This notice announces a meeting of the Aging Transport Systems Rulemaking Advisory Committee. The FAA will hold the meeting at the location listed under the ADDRESSES heading of this notice. The purpose of the meeting is to discuss the status of the three new tasks the FAA assigned to the ATSRAC (68 FR 31741, May 28, 2003). These tasks include:

• Providing recommendations about aging airplane wiring issues such as alternatives to rulemaking, providing technical and economic data, and helping to disposition comments to rulemakings;

• Helping to develop strategies for technology transfer of aviation-related research and development products to the aviation community in a manner that optimizes their transfer and optimizes the benefits resulting from their transfer; and

• Setting up criteria for upgrading and developing enhanced wiring inspection procedures for use by manufacturers of small transport airplanes.

The meeting is open to the public; however, attendance will be limited by the size of the meeting room. The FAA will make the following services available if you request them by October 17, 2003:

• Teleconferencing;

• Sign and oral interpretation; and

• A listening device.

Individuals using the teleconferencing service and calling from outside the Washington, DC, metropolitan area will be responsible for paying long-distance charges. To arrange for any of these services, contact the person listed under the FOR FURTHER INFORMATION CONTACT heading of this notice.

The public may present written statements to the Committee by providing 20 copies to the Committee's Executive Director or by bringing the copies to the meeting. Public statements will be considered if time allows.

Issued in Washington, DC, on October 8, 2003.
Tony F. Fazio,
Director, Office of Rulemaking.

[FR Doc. 03-26030 Filed 10-10-03; 10:03 am]

BILLING CODE 4910-13-P